MILLENNIUM CHALLENGE CORPORATION

[MCC FR 10-04]

Notice of Quarterly Report (October 1, 2009—December 31, 2009)

AGENCY: Millennium Challenge Corporation.

SUMMARY: The Millennium Challenge Corporation (MCC) is reporting for the quarter October 1, 2009 through December 31, 2009, on assistance provided under section 605 of the Millennium Challenge Act of 2003 (22 U.S.C. 7701 et seq.), as amended (the Act), and on transfers or allocations of funds to other federal agencies under section 619(b) of the Act. The following report will be made available to the public by publication in the Federal Register and on the Internet Web site of the MCC (http://www.mcc.gov) in accordance with section 612(b) of the Act.

Assistance Provided Under Section 605
Projects | Obligated | Objectives | Cumulative disbursements | Measures
Country: Madagascar Year: 2010 Quarter 1 Total Obligation: $87,998,166
Entity to which the assistance is provided: MCA Madagascar Total Quarterly Disbursement: $4,193,753
Land Tenure Project | $30,123,098 | Increase Land Titling and Security | $29,667,721 | Area secured with land certificates or titles in the Zones. Proportion of the population informed about land tenure reforms in the Zones. Legal and regulatory reforms adopted.
|  |  |  | Number of land documents inventoried in the Zones and Antananarivo.
|  |  |  | Number of land documents restored in the Zones and Antananarivo.
|  |  |  | Number of land documents digitized in the Zones and Antananarivo.
|  |  |  | Average time for Land Services Offices to issue a duplicate copy of a title.
|  |  |  | Average cost to a user to obtain a duplicate copy of a title from the Land Services Offices.
|  |  |  | Number of land certificates delivered in the Zones during the period.
|  |  |  | Number of new guichets fonciers operating in the Zones.
|  |  |  | The 256 Plan Local d'Occupation Foncier—Local Plan of Land Occupation (PLOFs) are completed.
Finance Project | 25,937,781 | Increase Competition in the Financial Sector | 23,535,849 | Volume of funds processed annually by the national payment system. The components necessary to implement the national payment system are operational: network equipment and integrator, real time gross settlement system (RTGS), retail payment clearing system, telecommunication facilities.
|  |  |  | Number of accountants and financial experts registered to become Certified Public Accountant (CPA).
|  |  |  | Percent of Micro-Finance Institution (MFI) loans recorded in the Central Bank database.
Agricultural Business Investment Project | 13,687,196 | Improve Agricultural Projection Technologies and Market Capacity in Rural Areas | 13,582,621 | Number of farmers that adopt new technologies or engage in higher value production. Number of enterprises that adopt new technologies or engage in higher value production. Number of farmers receiving technical assistance.
|  |  |  | Number of farmers employing technical assistance.
|  |  |  | Number of businesses receiving technical assistance.
|  |  |  | Number of Mnistère de l'Agriculture, de l'Elevage et de la Pêche—Ministry of Agriculture, Livestock, and Fishing (MAEP) agents trained in marketing and investment promotion.
|  |  |  | Zones identified and description of beneficiaries within each zone submitted.
|  |  |  | Number of people receiving information from Agricultural Business Center (ABCs) on business opportunities.
|  |  |  | Zonal investment strategies for the Zones are developed.
|  |  |  | Number of ABC clients who register as formal enterprises, cooperatives, or associations.
|  |  |  | Number of marketing contracts of ABC clients.
Program Administration* and Control, Monitoring and Evaluation | 18,250,091 |  | 17,583,512
Pending subsequent reports** |  |  | 1,368,813
* Program administration funds are used to pay items such as salaries, rent, and the cost of office equipment.
** These amounts represent disbursements made that will be allocated to individual projects in the subsequent quarter(s) and reported as such in subsequent quarterly report(s)

Projects | Obligated | Objective | Cumulative disbursements | Measures
Country: Honduras Year: 2010 Quarter 1 Total Obligation: $205,000,000
Entity to which the assistance is provided: MCA Honduras Total Quarterly Disbursement: $23,018,243
Rural Development Project | 69,907,000 | Increase the productivity and business skills of farmers who operate small and medium-size farms and their employees. | 45,706,605 | Number of program farmers harvesting high-value horticulture crops. Number of hectares harvesting high-value horticulture crops. Number of business plans prepared by program farmers with assistance from the implementing entity.
|  |  |  | Total value of net sales.
|  |  |  | Total number of recruited farmers receiving technical assistance.
|  |  |  | Value of loans disbursed (disaggregated by trust fund, leveraged from trust fund, and institutions receiving technical assistance from ACDI-VOCA).
|  |  |  | Number of loans disbursed (disaggregated by trust fund, leveraged from trust fund, and institutions receiving technical assistance from ACDI-VOCA).
|  |  |  | Percentage of loan portfolio at risk (disaggregated by trust fund and institutions receiving technical assistance from ACDI-VOCA).
|  |  |  | Funds lent from the trust fund to financial intermediaries through lines of credit.
|  |  |  | Number of hectares under irrigation.
|  |  |  | Number of beneficial biological control agents developed for use by program farmers or other farmers for pilot testing.
|  |  |  | Number of improved coffee hybrids available for cloning.
|  |  |  | Number of farmers connected to the community irrigation system.
|  |  |  | Number of certified deliverables across all agricultural public goods grant.
Transportation Project | 119,005,876 | Reduce transportation costs between targeted production centers and national, regional and global markets | 75,891,981 | Freight shipment cost from Tegucigalpa to Puerto Cortes. Average annual daily traffic volume—CA-5. International roughness index (IRI)—CA-5. Kilometers of road upgraded—CA-5.
|  |  |  | Percent of contracted road works disbursed—CA-5.
|  |  |  | Average annual daily traffic volume—secondary roads.
|  |  |  | International roughness index (IRI)—secondary roads.
|  |  |  | Kilometers of road upgraded—secondary roads.
|  |  |  | Percent of contracted road works disbursed—secondary roads.
|  |  |  | Average annual daily traffic volume—rural roads.
|  |  |  | Average speed—rural roads.
|  |  |  | Kilometers of road upgraded—rural roads.
|  |  |  | Percent of contracted road works disbursed—rural roads.
|  |  |  | Signed contracts for feasibility and/or design studies.
|  |  |  | Percent of contracted studies disbursed.
|  |  |  | Kilometers (km) of roads under design.
|  |  |  | Signed contracts for roads works.
|  |  |  | Kilometers (km) of roads under works contracts.
Program Administration* and Control, Monitoring and Evaluation | 16,087,124 |  | 9,027,708
Pending subsequent reports** |  |  | 1,521,767

Projects | Obligated | Objective | Cumulative disbursements | Measures
Country: Cape Verde Year: 2010 Quarter 1 Total Obligation: $110,078,488
Entity to which the assistance is provided: MCA Cape Verde Total Quarterly Disbursement: $8,048,329
Watershed and Agricultural Support | 11,001,130 | Increase agricultural production in three targeted watershed areas on three islands | 8,116,030 | Productivity: Horticulture, Paul watershed. Productivity: Horticulture, Faja watershed. Productivity: Horticulture, Mosteiros watershed.
|  |  |  | Number of farmers adopting drip irrigation.
|  |  |  | Area irrigated with drip irrigation.
|  |  |  | Percent of contracted irrigation works disbursed (cumulative).
|  |  |  | Reservoirs constructed.
|  |  |  | Number of farmers that have completed training in at least 3 of 5 core agricultural disciplines.
Infrastructure Improvement | 83,160,208 | Increase integration of the internal market and reduce transportation costs | 49,148,363 | Travel time ratio: percentage of beneficiary population further than 30 minutes from nearest market. Kilometers of roads rehabilitated. Percent of contracted Santiago Roads works disbursed (cumulative).
|  |  |  | Percent of contracted Santo Antao Bridge works disbursed (cumulative).
|  |  |  | Kilometers (km) of roads under design.
|  |  |  | Signed contracts for roads works.
|  |  |  | Kilometers (km) of roads under works contracts.
|  |  |  | Port of Praia: percent of contracted port works disbursed (cumulative).
|  |  |  | Cargo village: percent of works completed.
|  |  |  | Quay 2 improvements: percent of works completed.
|  |  |  | Access road: percent of works completed.
Private Sector Development | 2,081,223 | Spur private sector development on all islands through increased investment in the priority sectors and through financial sector reform | 1,188,909 | Micro-Finance Institution (MFI) recovery rate, adjusted. MFI portfolio at risk, adjusted. Ratio of MFIs operationally self-sufficient.
Program Administration* and Control, Monitoring and Evaluation | 13,835,927 |  | 9,213,906
Pending subsequent reports** |  |  | 1,471,195

Projects | Obligated | Objective | Cumulative disbursements | Measures
Country: Nicaragua Year: 2010 Quarter 1 Total Obligation: $113,599,752
Entity to which the assistance is provided: MCA Nicaragua Total Quarterly Disbursement: $12,093,689
Property Regularization Project | 7,205,205 | Increase Investment by strengthening property rights | 7,204,952 | Automated database of registry and cadastre installed in the 10 municipalities of Leon. Value of land, urban. Value of land, rural.
|  |  |  | Time to conduct a land transaction.
|  |  |  | Number of additional parcels with a registered title, urban.
|  |  |  | Number of additional parcels with a registered title, rural.
|  |  |  | Number of protected areas demarcated.
|  |  |  | Area covered by cadastral mapping.
|  |  |  | Cost to conduct a land transaction.
Transportation Project | 57,999,999 | Reduce transportation costs between Leon and Chinandega and national, regional and global markets | 44,081,241 | Annual Average daily traffic volume: N1 Section R1. Annual Average daily traffic volume: N1 Section R2. Annual Average daily traffic volume: Port Sandino (S13). Annual Average daily traffic volume: Villanueva—Guasaule Annual.
|  |  |  | Average daily traffic volume: Somotillo-Cinco Pinos (S1).
|  |  |  | Annual average daily traffic volume: León-Poneloya-Las Peñitas.
|  |  |  | International Roughness Index: N-I Section R1.
|  |  |  | International Roughness Index: N-I Section R2.
|  |  |  | International Roughness Index: Port Sandino (S13).
|  |  |  | International roughness index: Villanueva—Guasaule.
|  |  |  | International roughness index: Somotillo-Cinco Pinos.
|  |  |  | International roughness index: León-Poneloya-Las Peñitas.
|  |  |  | Kilometers of NI upgraded: R1 and R2 and S13.
|  |  |  | Kilometers of NI upgraded: Villanueva—Guasaule.
|  |  |  | Kilometers of S1 road upgraded.
|  |  |  | Kilometers of S9 road upgraded.
|  |  |  | Kilometers of designed primary roads (including N-I/Puerto Sandino and V-G).
|  |  |  | Kilometers of designed secondary roads.
Rural Development Project | 32,897,500 | Increase the value added of farms and enterprises in the region | 22,401,745 | Number of beneficiaries with business plans prepared with assistance from the Rural Development Business Project. Numbers of manzanas (1 Manzana = 1.7 hectares), by sector, harvesting higher-value crops.
|  |  |  | Number of manzanas of beneficiaries of the program that harvest higher-value crops with irrigation or commercial reforestation under Improvement of Water Supply Activities.
|  |  |  | Number of beneficiaries implementing business plans.
|  |  |  | Average increase in income of beneficiaries due to program.
Program Administration*, Due Diligence, Monitoring and Evaluation | 15,497,048 |  | 10,375,380
Pending subsequent reports** |  |  | 3,759,039

Projects | Obligated | Objective | Cumulative disbursements | Measures
Country: Georgia Year: 2010 Quarter 1 Total Obligation: $395,300,000
Entity to which the assistance is provided: MCA Georgia Total Quarterly Disbursement: $45,135,334
Regional Infrastructure Rehabilitation | 310,750,000 | Key Regional Infrastructure Rehabilitated | 136,600,072 | Household savings from Infrastructure Rehabilitation Activities. Savings in vehicle operating costs (VOC).
|  |  |  | International roughness index (IRI).
|  |  |  | Annual average daily traffic (AADT).
|  |  |  | Travel Time.
|  |  |  | Kilometers of road paved.
|  |  |  | Percent of contracted works disbursed.
|  |  |  | Signed contracts for feasibility and/or design studies.
|  |  |  | Percent of contracted studies disbursed.
|  |  |  | Kilometers of roads under design.
|  |  |  | Signed contracts for road works.
|  |  |  | Kilometers of roads under works contracts.
|  |  |  | Sites rehabilitated (phases I, II, III)—pipeline.
|  |  |  | Construction works completed (phase II)—pipeline.
|  |  |  | Savings in household expenditures for all subprojects.
|  |  |  | Population Served by all subprojects.
|  |  |  | Subprojects completed.
|  |  |  | Value of project grant agreements signed.
|  |  |  | Value of project works and goods contracts signed.
|  |  |  | Subprojects with works initiated.
Regional Enterprise Development | 52,200,000 | Enterprises in Regions Developed | 38,387,329 | Jobs Created by Agribusiness Development Activity (ADA) and by Georgia Regional Development Fund (GRDF). Household net income—ADA and GRDF.
|  |  |  | Jobs created—ADA.
|  |  |  | Firm income ADA.
|  |  |  | Household net income—ADA.
|  |  |  | Beneficiaries (direct and indirect)—ADA.
|  |  |  | Grant agreements signed—ADA.
|  |  |  | Increase in gross revenues of portfolio companies (PC).
|  |  |  | Increase in portfolio company employees.
|  |  |  | Increase in wages paid to the portfolio company employees.
|  |  |  | Cumulative number of portfolio companies.
|  |  |  | Funds disbursed to the portfolio companies.
Program Administration*, Due Diligence, Monitoring and Evaluation | 32,350,000 |  | 16,093,973
Pending subsequent reports** |  |  | 0
November 2008, MCC and the Georgian government signed a Compact amendment making up to $100 million of additional funds available to the Millennium Challenge Georgia Fund. These funds will be used to complete works in the Roads, Regional Infrastructure Development, and Energy Rehabilitation Projects contemplated by the original Compact. The amendment was ratified by the Georgian parliament and entered into force on January 30, 2009.

Projects | Obligated | Objective | Cumulative disbursements | Measures
Country: Vanuatu Year: 2010 Quarter 1 Total Obligation: $65,690,000
Entity to which the assistance is provided: MCA Vanuatu Total Quarterly Disbursement: $6,590,285
Transportation Infrastructure Project | 60,162,579 | Facilitate transportation to increase tourism and business development | 42,223,234 | Number of international tourists—Efate. Number of international tourists—Santo.
|  |  |  | Number of room nights occupied—Efate.
|  |  |  | Number of room nights occupied—Santo.
|  |  |  | Average annual daily traffic—Efate.
|  |  |  | Average annual daily traffic—Santo.
|  |  |  | Kilometers of road upgraded—Efate.
|  |  |  | Kilometers of roads upgraded—Santo.
|  |  |  | Signed contracts for feasibility and/or design studies.
|  |  |  | Percent of contracted studies disbursed.
|  |  |  | Kilometers (km) of roads under design.
|  |  |  | Signed contracts for roads works.
|  |  |  | Kilometers (km) of roads under works contracts.
|  |  |  | Percent of contracted roads works disbursed.
Program Administration*, Due Diligence, Monitoring and Evaluation | 5,527,421 |  | 2,835,051
Pending subsequent reports** |  |  | 104,691

Projects | Obligated | Objective | Cumulative disbursements | Measures
Country: Armenia Year: 2010 Quarter 1 Total Obligation: $235,650,000
Entity to which the assistance is provided: MCA Armenia Total Quarterly Disbursement: $12,688,383
Irrigated Agriculture Project (Agriculture and Water) | 152,629,208 | Increase agricultural productivity Improve and Quality of Irrigation | 35,432,441 | Recovery of Water User Associations (WUA) operations and maintenance cost by water charges. Primary canals rehabilitated.
|  |  |  | Tertiary canals rehabilitated.
|  |  |  | Percent of contracted irrigation works disbursed.
|  |  |  | Value of signed contracts for irrigation works.
|  |  |  | Number of farmers using better on-farm water management.
|  |  |  | Number of farmers trained.
|  |  |  | Number of agribusinesses assisted.
|  |  |  | Value of agricultural loans to farmers/agribusinesses.
Rural Road Rehabilitation Project | 67,100,000 | Better access to economic and social infrastructure | 7,870,944 | Average annual daily traffic. International roughness index.
|  |  |  | Kilometers of roads rehabilitated.
|  |  |  | Percent of contracted roads works disbursed.
|  |  |  | Signed contracts for roads works.
|  |  |  | Percent of contracted studies disbursed.
|  |  |  | Kilometers (km) of roads under design.
|  |  |  | Signed contracts for feasibility and/or design studies.
|  |  |  | Kilometers (km) of roads under works contracts.
Program Administration*, Due Diligence, Monitoring and Evaluation | 15,920,792 |  | 9,731,968
Pending subsequent reports** |  |  | 992,543

Projects | Obligated | Objective | Cumulative disbursements | Measures
Country: Benin Year: 2010 Quarter 1 Total Obligation: $307,298,040
Entity to which the assistance is provided: MCA Benin Total Quarterly Disbursement: $17,276,237
Access to Financial Services | 19,650,000 | Expand Access to Financial Services | 3,337,246 | Volume of credits granted by the Micro-Finance Institutions (MFI). Volume of saving collected by the Micro-Finance Institutions.
|  |  |  | Average portfolio at risk >90 days of microfinance institutions at the national level.
|  |  |  | Operational self-sufficiency of MFIs at the national level.
|  |  |  | Average time required by Cellule de Surveillance des Structures Financières Décentralisées (CSSFD) in treating MFI applications.
|  |  |  | Number of institutions receiving grants through the Facility.
|  |  |  | Second call for proposal for grants launched.
|  |  |  | Number of MFIs inspected by CSSFD.
Access to Justice | 34,270,000 | Improved Ability of Justice System to Enforce Contracts and Reconcile Claims | 1,940,659 | Average time to enforce a contract. Percent of firms reporting confidence in the judicial system. Number of cases processed at Arbitration Center per year.
|  |  |  | Number of Information, Education and Communication Campaign (IEC) sessions hosted by Chamber of Commerce (CAMeC).
|  |  |  | Passage of new legal codes.
|  |  |  | Average time required for Tribunaux de premiere instance- arbitration centers and courts of first instance (TPI) to reach a final decision on a case.
|  |  |  | Average time required for Court of Appeals to reach a final decision on a case.
|  |  |  | Percent of cases resolved in TPI per year.
|  |  |  | Percent of cases resolved in Court of Appeals per year.
|  |  |  | Number of Court inspections per year.
|  |  |  | Number of Court employees trained.
|  |  |  | Number of beneficiaries of legal aid services.
|  |  |  | Complete construction on 9 new court houses.
|  |  |  | Average time required to register a business (société).
|  |  |  | Average time required to register a business (sole proprietorship).
|  |  |  | Number of businesses accessing CAMEC service.
|  |  |  | Business registration center (CFE) information and outreach campaign executed throughout Benin.
Access to Land | 36,020,000 | Strengthen property rights and increase investment in rural and urban land | 12,582,598 | Total value of investment in targeted urban land parcels. Total value of investment in targeted rural land parcels. Average cost required to obtain a new land title through on demand process.
|  |  |  | Average cost required to convert occupancy permit to land title through systematic process.
|  |  |  | Percentage of respondents perceiving land security in the Occupancy Permit (PH) into Land titles (TF) or Rural Land Plan Foncier Rural (PFR) areas.
|  |  |  | Number of new land disputes reported by commune heads.
|  |  |  | Seven studies complete.
|  |  |  | Land code texts adopted (laws, decrees and land code).
|  |  |  | Value ($) of equipment purchased.
|  |  |  | Number of land certificates issued within MCA- Benin implementation.
|  |  |  | Number of habitation permits converted to land titles.
|  |  |  | Number of Continuously Operating Reference (CORS) stations installed.
|  |  |  | Number of public and private surveyors trained.
|  |  |  | Number of communes with new cadastres.
|  |  |  | Land market information system established.
Access to Markets | 169,447,000 | Improve Access to Markets through Improvements to the Port of Cotonou | 27,391,206 | Volume of merchandise traffic through the Port Autonome de Cotonou. Bulk ship carriers waiting times at the port. Container ship waiting times at the port.
|  |  |  | Port design-build contract awarded.
|  |  |  | Port crime levels (number of thefts).
|  |  |  | Internal port circulation time.
|  |  |  | Average time to clear customs.
|  |  |  | Execution rate of training plan.
|  |  |  | Port meets—international port security standards (ISPS).
|  |  |  | Public consultation completed (3).
|  |  |  | Environmental permits issued.
Program Administration*, Due Diligence, Monitoring and Evaluation | 47,911,040 |  | 20,768,780
Pending subsequent reports** |  |  | 283,061

Projects | Obligated | Objective | Cumulative disbursements | Measures
Country: Ghana Year: 2010 Quarter 1 Total Obligation: $547,009,000
Entity to which the assistance is provided: MCA Ghana Total Quarterly Disbursement: $33,331,317
Agriculture Project | 227,899,382 | Enhance Profitability of cultivation, services to agriculture and product handling in support of the expansion of commercial agriculture among groups of smallholder farms | 60,896,888 | Number of farmers trained. Number of agribusinesses assisted. Number of hectares under production with MCC support.
|  |  |  | Value of agricultural loans to farmers/agribusinesses.
|  |  |  | Value of signed contracts for feasibility and/or design studies (irrigation).
|  |  |  | Percent of contracted (design/feasibility) studies complete (irrigation).
|  |  |  | Value of signed contracts for irrigation works (irrigation).
|  |  |  | Percent of contracted irrigation works disbursed.
|  |  |  | Percent of people aware of their land rights.
|  |  |  | Total number of parcels surveyed in the Pilot Land Registration Areas (PLRAs).
|  |  |  | Volume of products passing through post-harvest treatment.
Rural Development Project | 89,361,539 | Strengthen the rural institutions that provide services complementary to, and supportive of, agricultural and agriculture business development | 12,640,404 | Number of students enrolled in schools affected by Education Facilities Sub-Activity. Number of schools rehabilitated. Number of basic school blocks constructed to Ministry of Education (MOE) construction standards.
|  |  |  | Number of schools designed and due diligence completed.
|  |  |  | Distance to collect water.
|  |  |  | Time to collect water.
|  |  |  | Incidence of guinea worm.
|  |  |  | Average number of days lost due to guinea worm.
|  |  |  | Number of people affected by Water and Sanitation Facilities Sub-Activity.
|  |  |  | Number of stand-alone boreholes/wells/non-conventional water systems constructed/rehabilitated.
|  |  |  | Number of small-town water systems constructed.
|  |  |  | Number of pipe extension projects constructed.
|  |  |  | Number of stand-alone boreholes/wells/non-conventional water systems identified and due diligence performed for rehabilitation/construction.
|  |  |  | Number of small-town water systems designed and due diligence completed for construction.
|  |  |  | Number of pipe extension projects designed and due diligence completed for construction.
|  |  |  | Number of agricultural processing plants in target districts with electricity due to Rural Electrification Sub-Activity.
|  |  |  | Number of electricity projects identified and due diligence completed.
Transportation | 174,285,120 | Reduce the transportation costs affecting agriculture commerce at sub-regional levels | 29,089,944 | International roughness index. Annualized average daily traffic. Kilometers of road completed.
|  |  |  | Percent of contracted road works disbursed.
|  |  |  | Value of signed contracts for road works.
|  |  |  | Kilometers of road designed.
|  |  |  | Percent of contracted design/feasibility studies completed.
|  |  |  | Value of signed contracts for feasibility and/or design studies.
|  |  |  | Travel time for walk-on passengers.
|  |  |  | Travel time for small vehicles.
|  |  |  | Travel time for trucks.
|  |  |  | Annual average daily traffic (vehicles).
|  |  |  | Annual average daily traffic (passengers).
|  |  |  | Landing stages rehabilitated.
|  |  |  | Ferry terminal upgraded.
|  |  |  | Rehabilitation of Akosombo Floating Dock completed.
|  |  |  | Percent of contracted work disbursed landings and terminals.
|  |  |  | Value of signed contracts for works: ferry and floating dock.
|  |  |  | Value of signed contracts for works: landings and terminals.
Program Administration*, Due Diligence, Monitoring and Evaluation | 55,462,959 |  | 19,243,257
Pending subsequent reports** |  |  | 1,327,602

Projects | Obligated | Objective | Cumulative disbursements | Measures
Country: El Salvador Year: 2010 Quarter 1 Total Obligation: $460,940,000
Entity to which the assistance is provided: MCA El Salvador Total Quarterly Disbursement: $16,870,583
Human Development Project | 94,963,736 | Increase human and physical capital of residents of the Northern Zone to take advantage of employment and business opportunities | 11,720,541 | Employment rate of graduates of middle technical schools. Graduation rates of middle technical schools. Middle technical schools remodeled and equipped.
|  |  |  | Scholarships granted to students of middle technical schools.
|  |  |  | Students of non-formal training.
|  |  |  | Cost of water.
|  |  |  | Time collecting water.
|  |  |  | Households benefiting with water solutions built.
|  |  |  | Potable water and basic sanitation systems with construction contracts signed.
|  |  |  | Cost of electricity.
|  |  |  | Electricity consumption.
|  |  |  | Households benefiting with a connection to the electricity network.
|  |  |  | Household benefiting with the installation of isolated solar systems.
|  |  |  | Kilometers of new electrical lines with construction contracts signed.
|  |  |  | Population benefiting from strategic infrastructure.
|  |  |  | Community Infrastructure Works with Construction Contracts Signed.
Productive Development Project | 87,850,853 | Increase production and employment in the Northern Zone | 20,015,147 | Number of hectares under production with MCC support. Number of farmers trained.
|  |  |  | Value of agricultural loans to farmers/agribusinesses.
|  |  |  | Number of agribusinesses assisted.
Connectivity Project | 233,389,335 | Reduce travel cost and time within the Northern Zone, with the rest of the country, and within the region | 22,054,330 | Average annual daily traffic. International roughness index. Kilometers of roads rehabilitated. Kilometers of roads under works contract.
|  |  |  | Signed contracts for roads works.
|  |  |  | Percent of contracted roads works disbursed.
Program Administration* and Control, Monitoring and Evaluation | 44,736,076 |  | 12,356,366
Pending Subsequent Report** |  |  | 0

Projects | Obligated | Objective | Cumulative disbursements | Measures
Country: Mali Year: 2010 Quarter 1 Total Obligation: $460,811,164
Entity to which the assistance is provided: MCA Mali Total Quarterly Disbursement: $14,221,585
Bamako Sénou Airport Improvement Project | 181,254,264 | Establish an independent and secure link to the regional and global economy | 9,140,789 | Total wage bill of tourism industry. Freight volume. Employment at airport.
|  |  |  | Signature of design contract.
|  |  |  | Average number of weekly flights (arrivals).
|  |  |  | Passenger traffic (annual average).
|  |  |  | Percent works complete.
|  |  |  | Airside Infrastructure Design, and Airside Infrastructure Construction Supervision, (AIR A01) and Landside Infrastructure Design (New Terminal & Associated Works) and Landside Construction Supervision is launched.
|  |  |  | Time required for passenger processing at departures and arrivals.
|  |  |  | Passenger satisfaction level.
|  |  |  | Percent works complete.
|  |  |  | Percent of airport management and maintenance plan implemented.
|  |  |  | Airport meets Federal Aviation Administration (FAA) and International Civil Aviation Organization (ICAO) security standards.
|  |  |  | Technical assistance delivered to project.
Alatona Irrigation Project | 234,884,675 | Increase the agricultural production and productivity in the Alatona zone of the ON | 32,430,172 | Number of agricultural jobs created in Alatona zone. Main season rice yields. International roughness index (IRI) on the Niono-Goma Coura Route.
|  |  |  | Average daily vehicle count.
|  |  |  | Percentage works complete.
|  |  |  | Total irrigated land in the Alatona zone.
|  |  |  | Irrigation system efficiency on Alatona Canal during the rainy season and the dry season.
|  |  |  | Kilometers of road under design/feasibility study.
|  |  |  | Value of signed contracts for road works.
|  |  |  | Kilometers of road under works contract.
|  |  |  | Percent of works completed on main system construction.
|  |  |  | Percent of contracted irrigation works disbursed for tranche 1.
|  |  |  | Value of signed contracts for irrigation works.
|  |  |  | Value of signed contracts for feasibility and/or design studies.
|  |  |  | Percent of contracted (design/feasibility) studies disbursed.
|  |  |  | Area planted by new settlers (wet season).
|  |  |  | Titles registered in the land registration office of the Alatona zone (for 5- or 10-hectare farms).
|  |  |  | Total land payments made.
|  |  |  | Total market gardens allocated in Alatona zones for the populations affected by the project (PAPs).
|  |  |  | Decree transferring legal control of the project impact area is passed.
|  |  |  | Selection criteria for new settlers approved.
|  |  |  | Contractor implementing the “Mapping of Agricultural and Communal Land Parcels” contract is mobilized.
|  |  |  | School enrollment rate.
|  |  |  | Percent of Alatona population with access to drinking water.
|  |  |  | Number of schools available in the Alatona.
|  |  |  | Number of health centers available in the Alatona.
|  |  |  | Number of concessions that have been compensated.
|  |  |  | Resettlement census verified.
|  |  |  | Adoption rate of improved agriculture techniques among populations affected by the project (PAPs).
|  |  |  | Number of operational mixed cooperatives.
|  |  |  | Area planted by PAPs (wet season rice).
|  |  |  | Area planted with shallots during dry season.
|  |  |  | Number of farmers completing literacy training.
|  |  |  | Number of people completing the rice and shallot production techniques module.
|  |  |  | Number of farmers completing land titling training.
|  |  |  | Water management system design and capacity building strategy implemented.
|  |  |  | Call for proposals for the applied research grants launched.
|  |  |  | Average portfolio at risk among Alatona microfinance institutions.
|  |  |  | Average loan repayment rate of Alatona clients (farmers organizations or individual farmers).
|  |  |  | Amount of credit extended to Alatona farmers.
|  |  |  | Number of farmers accessing grant assistance for first loan from financial institutions.
|  |  |  | Financial institution partners identified (report on assessment of the financial institutions in the Office du Niger—Office of Niger zone (ON zone).
Industrial Park Project | 2,643,432 | Develop a platform for industrial activity to be located within the Airport domain | 2,637,472 | Occupancy level. Average number of days required for operator to connect to Industrial Park water and electricity services.
Program Administration* and Control, Monitoring and Evaluation | 42,028,793 |  | 16,370,427
Pending Subsequent Report** |  |  | 0

Projects | Obligated | Objective | Cumulative disbursements | Measures
Country: Mongolia Year: 2010 Quarter 1 Total Obligation: $284,902,443
Entity to which the assistance is provided: MCA Mongolia Total Quarterly Disbursement: $1,895,217
Property Rights Project | 22,910,728 | Increase security and capitalization of land assets held by lower-income Mongolians, and increased peri-urban herder productivity and incomes | 824,383 | Number of studies completed. Legal and regulatory reforms adopted. Number of landholders reached by public outreach efforts.
|  |  |  | Personnel Trained.
|  |  |  | Number of Buildings rehabilitated/constructed.
|  |  |  | Value of equipment purchased.
|  |  |  | Rural hectares Mapped.
|  |  |  | Urban Parcels Mapped.
|  |  |  | Rural Hectares Formalized.
|  |  |  | Urban parcels formalized.
Rail Project | 188,378,000 | Increase rail traffic and shipping efficiency | 369,560 | Increase in gross domestic product due to rail improvements. Freight turnover. Mine traffic.
|  |  |  | Percent of wagons leased by private firms.
|  |  |  | Railway operating ratio.
|  |  |  | Customer satisfaction.
|  |  |  | Wagon time to destination.
|  |  |  | Average locomotive availability.
Vocational Education Project | 25,492,856 | Increase employment and income among unemployed and underemployed Mongolians | 903,534 | Rate of employment. Students completing newly designed long-term programs. Percent of active teachers receiving certification training.
|  |  |  | Technical and vocational education and training (TVET) legislation passed.
Health Project | 16,969,757 | Increase the adoption of behaviors that reduce non-communicable diseases (NCDIs) among target populations and improved medical treatment and control of NCDIs | 1,149,233 | Diabetes and hypertension controlled. Percentage of cancer cases diagnosed in early stages. Road and traffic safety activity finalized and key interventions developed.
Program Administration* and Control, Monitoring and Evaluation | 31,151,102 |  | 6,277,475
Pending subsequent reports** |  |  | 265,000
In late 2009, the MCC's Board of Directors approved the allocation of a portion of the funds originally designated for the rail project to the expansion of the health, vocational education and property right projects from the rail project, and the remaining portion to the addition of a road project.

Projects | Obligated | Objective | Cumulative disbursements | Measures
Country: Mozambique Year: 2010 Quarter 1 Total Obligation: $506,924,053
Entity to which the assistance is provided: MCA Mozambique Total Quarterly Disbursement: $4,542,157
Water and Sanitation Project | 203,585,393 | Increase access to reliable and quality water and sanitation facilities | 2,041,490 | Time to get to non-private water source. Percent of urban population with improved water sources. Percent of urban population with improved sanitation facilities.
|  |  |  | Number of private household water connections in urban areas.
|  |  |  | Number of private household sanitation connections in urban areas.
|  |  |  | Number of standpipes in urban areas.
|  |  |  | Final detailed design for 5 towns submitted.
|  |  |  | Final detailed design for 3 cities submitted.
|  |  |  | Percent of rural population with access to improved water sources.
|  |  |  | Number of rural water points constructed.
|  |  |  | Final design report 1 (400 WP) submitted.
|  |  |  | Final design report II (200 Water points) submitted.
|  |  |  | Implementing agreement signed with the Administration for Water and Sanitation (AIAS) Infrastructure.
|  |  |  | Change in international roughness index (IRI).
|  |  |  | Average annual daily traffic volume.
Road Rehabilitation Project | 176,307,480 | Increase access to productive resources and markets | 715,163 | Kilometers of road rehabilitated. Kilometers of road under design. Percent of Namialo—Rio Lúrio Road—Metoro feasibility, design, and supervision contract disbursed.
|  |  |  | Percent of Rio Ligonha_Nampula feasibility, design, and supervision contract disbursed.
|  |  |  | Percent of Chimuara_Nicoadala feasibility, design, and supervision contract disbursed.
|  |  |  | Kilometers of roads under works contract.
|  |  |  | Percent of Namialo—Rio Lúrio Road construction contract disbursed.
|  |  |  | Percent of Rio Lúrio—Metoro Road construction contract disbursed.
|  |  |  | Percent of Rio Ligonha—Nampula Road construction contract disbursed.
|  |  |  | Percent of Chimuara_Nicoadala Road construction contract disbursed.
|  |  |  | Feasibility/Environmental and Social Assessment studies, design, supervision, and construction contract (ESA) for Namialo_Rio Lúrio-Metoro Road segment signed.
|  |  |  | Feasibility/ESA contract for Rio Ligonha_Nampula Road segment signed.
|  |  |  | Feasibility/ESA contract for Chimuara—Nicoadala Road signed.
|  |  |  | Time to get land usage rights direito de uso e aproveitamento da terra (state-granted land right) (DUAT).
|  |  |  | Cost to get land usage rights DUAT.
Land Tenure Services Project | 39,068,307 | Establish efficient, secure land access for households and investors | 2,182,331 | Total number of officials and residents reached with land strategy and policy awareness and outreach messages. Land strategy approved. Number of buildings rehabilitated or built.
|  |  |  | Total value of procured equipment and materials.
|  |  |  | Number of people trained.
|  |  |  | Rural hectares mapped in Site Specific Activity.
|  |  |  | Rural hectares mapped in Community Land Fund Initiative.
|  |  |  | Urban parcels mapped.
|  |  |  | Rural hectares formalized through Site Specific Activity.
|  |  |  | Rural hectares formalized through Community Land Fund Initiative.
|  |  |  | Urban parcels formalized.
|  |  |  | Number of communities delimited.
|  |  |  | Number of households having land formalized.
|  |  |  | Income from coconuts and coconut products.
|  |  |  | Survival rate of coconut seedling.
Farmer Income Support Project | 18,400,117 | Improve coconut productivity and diversification into cash crop | 1,267,243 | Number of diseased or dead palm trees cleared. Number of coconut seedlings planted. Hectares under production.
|  |  |  | Number of farmers trained in pest and disease control.
|  |  |  | Number of farmers trained in crop diversification technologies.
|  |  |  | Contract for project implementation signed.
Program Administration* and Control, Monitoring and Evaluation | 69,562,756 |  | 9,116,105
Pending Subsequent Report** |  |  | 806,906

Projects | Obligated | Objective | Cumulative disbursements | Measures
Country: Lesotho Year: 2010 Quarter 1 Total Obligation: $362,514,382
Entity to which the assistance is provided: MCA Lesotho Total Quarterly Disbursement: $3,674,696
Water Project | 164,027,999 | Improve the water supply for industrial and domestic needs, and enhance rural livelihoods through improved watershed management | 5,470,756 | School days lost due to water borne diseases. Diarrhea notification at health centers. Time saved due to access to water source. Rural household (HH) provided with access to improved water supply.
|  |  |  | Rural HH provided with access to improved ventilated latrines.
|  |  |  | Rural water points constructed.
|  |  |  | Number of new latrines built.
|  |  |  | Urban HH with access to potable water supply.
|  |  |  | Number of enterprises connected to water network.
|  |  |  | Households connected to improved water network.
|  |  |  | Cubic meters of treated water from metolong dam delivered through a conveyance system to Water and Sewerage Authority (WASA).
|  |  |  | Value of water treatment contract works award.
|  |  |  | Value of conveyance system contract work award.
|  |  |  | Species population.
|  |  |  | Livestock grazing per area.
|  |  |  | Area put under conservation.
Health Project | 122,398,000 | Increase access to life-extending ART and essential health services by providing a sustainable delivery platform. | 3,194,630 | People with HIV still alive 12 months after initiation of treatment. TB notification (per 100,000 pop.). Proportion of blood units collected annually.
|  |  |  | Deliveries conducted in the health centers.
|  |  |  | Immunization coverage rate.
|  |  |  | Number of Health Centers (H/C) constructed and fully equipped.
|  |  |  | Value of contract works for health center construction.
|  |  |  | Percentage of contract works for health center construction disbursed.
|  |  |  | Percentage of contract works for Botshalo Complex disbursed.
|  |  |  | Percentage of contract works for Out-Patient Department (OPD) Centers disbursed.
|  |  |  | Percentage of HSS Contract disbursed.
|  |  |  | Proportion of People Living With AIDS(PLWA) receiving Antiretroviral treatment (ARV) (by age and sex).
|  |  |  | Referred tests from central laboratory per year by types (number).
Private Sector Development Project | 36,470,318 | Stimulate investment by improving access to credit, reducing transaction costs and increasing the participation of women in the economy | 1,961,646 | Average time (days) required to enforce a contract. Pending commercial cases. Cases filed at the commercial court.
|  |  |  | Value of commercial cases.
|  |  |  | Judicial staff trained.
|  |  |  | Administrative and clerical staff trained.
|  |  |  | Awareness campaigns.
|  |  |  | Portfolio of loans.
|  |  |  | Loan processing time.
|  |  |  | Bank accounts.
|  |  |  | Paper-based payments.
|  |  |  | Electronic payments.
|  |  |  | Value of contract services signed.
|  |  |  | Debit/smart cards issued.
|  |  |  | Mortgage bonds registered.
|  |  |  | Value of registered mortgage bonds.
|  |  |  | New land disputes brought to the Land Tribunal and Courts of Law.
|  |  |  | Time to complete a land transaction.
|  |  |  | Time to complete transfer of land rights.
|  |  |  | Land transactions recorded.
|  |  |  | Land parcels formalized.
|  |  |  | Number of land administration personnel trained.
|  |  |  | Land Act adopted.
|  |  |  | People trained on gender equality and economic rights.
|  |  |  | ID cards issued.
|  |  |  | Population registered in the national database.
Program Administration* and Control, Monitoring and Evaluation | 39,654,682 |  | 10,222,540
Pending Subsequent Report** |  |  | −23,881

Projects | Obligated | Objective | Cumulative disbursements | Measures
Country: Morocco Year: 2010 Quarter 1 Total Obligation: $697,500,000
Entity to which the assistance is provided: MCA Lesotho Total Quarterly Disbursement: $12,789,002
Fruit Tree Productivity | 300,898,445 | Reduce volatility of agricultural production and increase volume of fruit agricultural production | 9,663,592 | Total annual volume of production of dates and olives. Cropped area covered by olive trees. Survival rate of newly planted olive trees after 2 years project-supported establishment period.
|  |  |  | Yield of rehabilitated olive trees.
|  |  |  | Cropped area covered by date trees.
|  |  |  | Yield of rehabilitated date palms.
Small Scale Fisheries | 116,168,027 | Improve quality of fish moving through domestic channels and assure the sustainable use of fishing resources | 1,155,138 | State of fish stock. Domestic fish consumption level. Fisherman net revenue.
|  |  |  | Average fisherman sales price at Points de Débarquement Aménagés (PDA).
|  |  |  | Volume sold at wholesale markets.
|  |  |  | Fish sale price.
|  |  |  | Average sales price.
|  |  |  | Volume of sales among mobile fish vendors.
Artisan and Fez Medina | 111,873,858 | Increase value added to tourism and artisan sectors | 384,852 | Average revenue of potters receiving Artisan Production Activity. Employment and wages among project graduates. Tourist arrivals.
|  |  |  | Artisan profits (artisans engaged in product finishing and points of sale).
|  |  |  | Employment created.
|  |  |  | Small and Medium Enterprises (SME) value added.
Financial Services | 46,200,000 | Increase supply and decrease costs of financial services available to microenterprises | 12,937,907 | Gross loan portfolio outstanding of microcredit associations. Portfolio at risk >30 days ratio. Operating expense ratio.
Enterprise Support | 33,850,000 | Improved survival rate of new SMEs and INDH-funded income generating activities; increased revenue for new SMEs and INDH-funded income generating activities | 1.352,603 | Average annual sales of participating businesses. Survival rate of participating businesses.
Program Administration* and Control, Monitoring and Evaluation | 88,511,670 |  | 9,320,527
Pending Subsequent Report** |  |  | 173,509

Projects | Obligated | Objective | Cumulative disbursements | Measures
Country: Tanzania Year: 2010 Quarter 1 Total Obligation: $698,136,000
Entity to which the assistance is provided: MCA Tanzania Total Quarterly Disbursement: $3,161,608
Energy Sector | 206,471,000 | Increase value added to businesses | 2,952,318 | New power customers. Energy generation—Kigoma. Transmission capacity.
|  |  |  | Percentage disbursed for design and supervision contract Consulting Engineer (CE) year 1 budgeted.
Transport Sector | 372,776,000 | Increase cash crop revenue and aggregate visitor spending | 3,034,852 | International roughness index (Tunduma, Tanga, Nantumbo, Peramiho). Average annual daily traffic (Tunduma, Tanga, Nantumbo, Peramiho). Kilometers upgraded/completed (Tunduma, Tanga, Nantumbo, Peramiho).
|  |  |  | Percent disbursed on construction works (Tunduma, Tanga, Nantumbo, Peramiho).
|  |  |  | Signed contracts for construction works (Tunduma, Tanga, Nantumbo, Peramiho).
|  |  |  | Percent disbursed for feasibility and/or design studies (Tunduma, Tanga, Nantumbo, Peramiho).
|  |  |  | Signed contracts for feasibility and/or design studies (Tunduma, Tanga, Nantumbo, Peramiho).
|  |  |  | Kilometers of roads under design (Tunduma, Tanga, Nantumbo, Peramiho).
|  |  |  | International roughness index (Zanzibar Rural Roads).
|  |  |  | Average annual daily traffic (Zanzibar Rural Roads).
|  |  |  | Kilometers upgraded/completed (Zanzibar Rural Roads).
|  |  |  | Percent disbursed on construction works (Zanzibar Rural Roads).
|  |  |  | Signed contracts for construction works (Zanzibar Rural Roads).
|  |  |  | Percent disbursed for feasibility and/or design studies (Zanzibar Rural Roads).
|  |  |  | Signed contracts for feasibility and/or design studies (Zanzibar Rural Roads).
|  |  |  | Kilometers of roads under design (Zanzibar Rural Roads).
|  |  |  | Passenger arrivals.
|  |  |  | Percentage of upgrade complete (airport).
|  |  |  | Percent disbursed on construction works (airport).
|  |  |  | Signed contracts for construction works (airport).
Water Sector Project | 66,335,000 | Increase investment in human and physical capital and to reduce the prevalence of water-related disease | 1,095,219 | Prevalence of diarrhea (Dar es Salaam). Prevalence of diarrhea (Morogoro). Prevalence of cholera (Dar es Salaam).
|  |  |  | Prevalence of cholera (Morogoro).
|  |  |  | Volume of individual water consumption (Dar es Salaam).
|  |  |  | Volume of individual water consumption (Morogoro).
|  |  |  | Number of households using improved source for drinking water (Dar es Salaam).
|  |  |  | Number of households using improved source for drinking water (Morogoro).
|  |  |  | Number of businesses using improved water source (Dar es Salaam).
|  |  |  | Number of businesses using improved water source (Morogoro).
|  |  |  | Volume of water produced (Lower Ruvu).
|  |  |  | Volume of water produced (Morogoro).
|  |  |  | Volume of non-revenue water (Dar es Salaam).
|  |  |  | Operations and maintenance cost recovery ratio (Dar es Salaam).
|  |  |  | Operations and maintenance cost recovery ratio (Morogoro).
|  |  |  | Percent disbursed on construction works.
|  |  |  | Signed contracts for construction works.
Program Administration* and Control, Monitoring and Evaluation | 52,554,000 |  | 3,788,306
Pending Subsequent Report** |  |  | 206,197

Projects | Obligated | Objective | Cumulative disbursements | Measures
Country: Burkina Faso Year: 2010 Quarter 1 Total Obligation: $478,943,569
Entity to which the assistance is provided: MCA Burkina Faso Total Quarterly Disbursement: $2,397,440
Roads Project | 194,130,681 | Enhance access to markets through investments in the road network | 14,871 | To Be Determined (TBD).
Rural Land Governance Project | 59,934,614 | Increase investment in land and rural productivity through improved land tenure security and land management | 465,530 | TBD.
Agriculture Development Project | 141,910,059 | Expand the productive use of land in order to increase the volume and value of agricultural production in project zones | 17,851 | TBD.
Bright 2 Schools Project | 26,829,669 | Increase primary school completion rates | 26,829,669 | TBD.
Program Administration* and Control, Monitoring and Evaluation | 56,138,546 |  | 6,824,723
Pending Subsequent Report** |  |  | 65,145

Projects | Obligated | Objective | Cumulative disbursements | Measures
Country: Namibia Year: 2010 Quarter 1 Total Obligation: $304,477,817
Entity to which the assistance is provided: MCA Namibia Total Quarterly Disbursement: $2,455,717
Education Project | 144,976,559 | Improve the education sector's effectiveness, efficiency and quality | 338,267 | To Be Determined (TBD).
Tourism Project | 66,959,291 | Increase incomes and create employment opportunities by improving the marketing, management and infrastructure of Etosha National Park | 78,360 | TBD.
Agriculture Project | 46,965,320 | Sustainably improve the economic performance and profitability of the livestock sector and increase the volume of the indigenous natural products for export | 32,554 | TBD.
Program Administration* and Control, Monitoring and Evaluation | 45,576,647 |  | 4,045,476
Pending Subsequent Report** |  |  | 0
* Program administration funds are used to pay items such as salaries, rent, and the cost of office equipment.
** These amounts represent disbursements made that will be allocated to individual projects in the subsequent quarter(s) and reported as such in subsequent quarterly report(s)

619(b) Transfer or Allocation of Funds: U.S. Agency to which Funds were Transferred or Allocated | 619(b) Transfer or Allocation of Funds: Amount | 619(b) Transfer or Allocation of Funds: Description of program or project
None | $0 | None

Dated: April 6, 2010.
Charles Cooper,
Vice President, Congressional and Public Affairs, Millennium Challenge Corporation.

[FR Doc. 2010-8314 Filed 4-12-10; 8:45 am]

BILLING CODE 9211-03-P